DEPARTMENT OF HEALTH AND HUMAN SERVICES

National Institutes of Health

Center for Scientific Review; Amended Notice of Meeting

Notice is hereby given of a change in the meeting of the Center for Scientific Review Special Emphasis Panel, October 16, 2003, 8 a.m. to October 17, 2003, 5 p.m., Melrose Hotel, 2430 Pennsylvania Ave., NW., Washington, DC, 20037 which was published in the Federal Register on September 9, 2003, 68 FR 53183-53186.

The starting time of the meeting has been changed to 9 a.m. on October 16, 2003. The meeting dates and location remain the same. The meeting is closed to the public.

Dated: September 16, 2003.
LaVerne Y. Stringfield,
Director, Office of Federal Advisory Committee Policy.

[FR Doc. 03-24200 Filed 9-24-03; 8:45 am]

BILLING CODE 4140-01-M